NATIONAL AERONAUTICS AND SPACE ADMINISTRATION

[Notice: (17-081)]

NASA Advisory Council; Human Exploration and Operations Committee; Meeting

AGENCY: National Aeronautics and Space Administration.

ACTION: Notice of meeting.

SUMMARY: In accordance with the Federal Advisory Committee Act, the National Aeronautics and Space Administration (NASA) announces a meeting of the Human Exploration and Operations (HEO) Committee of the NASA Advisory Council (NAC). This Committee reports to the NAC.

DATES: Wednesday, November 29, 2017, 10:00 a.m.-5:00 p.m.; and Thursday, November 30, 2017, 8:30 a.m.-12:00 p.m., Local Time.

ADDRESSES: The Debus Conference Facility, NASA Kennedy Space Center, Visitor Center, SR 405, NASA Kennedy Space Center, FL 32899.

PARKING: Public attendees may park in Lot 4 and Lot 5.

FOR FURTHER INFORMATION CONTACT: Dr. Bette Siegel, Designated Federal Officer, NAC HEO Committee, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. Any interested person may dial the toll free access number 1-888-324-9238 or toll access number 1-517-308-9132, and then the numeric participant passcode: 3403297, to participate in this meeting by telephone. The WebEx link is https://nasa.webex.com/, the meeting number is 993 268 960, and the password is Exploration@2017 (case sensitive).

The agenda for the meeting includes the following topics:

—Human Exploration and Operations Mission Directorate Overview

—International Space Station Update

—Exploration Systems Division Update

—Commercial Crew Update

—Advanced Exploration Systems Update

—Future Human Exploration Planning

Attendees will be requested to sign a register before access to the meeting. It is imperative that the meeting be held on these dates to the scheduling priorities of the key participants.

Carol J. Hamilton,
Acting Advisory Committee Management Officer, National Aeronautics and Space Administration.

[FR Doc. 2017-24380 Filed 11-8-17; 8:45 am]

BILLING CODE 7510-13-P